ENVIRONMENTAL PROTECTION AGENCY

[FRL-7452-8]

EPA Science Advisory Board; Ecological Processes and Effects Committee Meeting—Notification of a Change in the Agenda and the Request for Public Comment

Purpose of this Notice—To advise of a change in the agenda for the advisory committee meeting advertised in 68 FR 4775, January 30, 2003. As noted in that FR Notice, the Ecological Processes and Effects Committee (EPEC) of the U.S. EPA Science Advisory Board (SAB) will meet on Thursday and Friday, February 13-14, 2003. Although a formal Consultation on the EPA Office of Waters' “Guidelines for Deriving Numerical National Water Quality Criteria for the Protection of Aquatic Organisms and Their Uses” was scheduled for that meeting, it has since been changed to a briefing. Other agenda items are unchanged and the meeting location remains unchanged.

In the above cited Federal Register notice, we stated that public comments (information, analysis or other documentation) will be accepted until February 7, 2003 on the EPEC member biosketches for the purpose of helping us to ensure a balanced panel for the Consultation that was originally planned. Since the Consultation will not take place at this time and no advice is being developed or provided by individuals on the Panel as a result of receiving briefings, we are no longer seeking comments on the biosketches. Any comments received at the address listed in the Federal Register notice (through the date of the meeting) will be considered in the event that the SAB conducts a formal Consultation on this topic in the future.

FOR FURTHER INFORMATION: Any member of the public wishing further information concerning this meeting, should contact Mr. Lawrence Martin, Designated Federal Officer, USEPA Science Advisory Board (1400A), Suite 6450, 1200 Pennsylvania Avenue, NW., Washington, DC 20460; telephone/voice mail at (202) 564-6497; fax at (202) 501-0582; or via e-mail at martin.lawrence@epa.gov. Information concerning this meeting can be found at the following Web site: http://www.epa.gov/sab/panels/epecpubmtg021303.htm.

Dated: February 7, 2003.
A. Robert Flaak,
Acting Deputy Director, EPA Science Advisory Board Staff Office.

[FR Doc. 03-3841 Filed 2-14-03; 8:45 am]

BILLING CODE 6560-50-P